LEGAL SERVICES CORPORATION

Sunshine Act Meeting of the Board of Directors

Time and Date: The Board of Directors of the Legal Services Corporation will meet November 20, 2004. The Board of Directors will convene following the preceding meeting of the Finance Committee, which is expected to conclude at approximately 11 a.m. It is possible that the meeting of the Board of Directors may convene earlier or later than expected, depending upon the length of the aforementioned committee meeting.

Location: The Westin Cincinnati, 21 E. 5th Street, Cincinnati, Ohio.

Status of Meeting: Open, except that a portion of the meeting may be closed pursuant to a vote of the Board of Directors to hold an executive session. At the closed session, the Corporation's General Counsel will report to the Board on litigation to which the Corporation is or may become a party, and the Board may act on the matters reported. The closing is authorized by 5 U.S.C. 552b(c)(2) and LSC's corresponding regulation 45 CFR 1622.5(a); 5 U.S.C. 552b(c)(6) and LSC's corresponding regulation 45 CFR 1622.5(e); 5 U.S.C. 552b(c)(7) and LSC's implementing regulation 45 CFR 1622.5(f)(4), and 5 U.S.C. 522b(c)(9)(B) and LSC's implementing regulation 45 CFR 1622.5(g); and 5 U.S.C. 552b(c)(10) and LSC's corresponding regulation 45 CFR 1622.5(h). A copy of the General Counsel's Certification that the closing is authorized by law will be available upon request.

Matters to be Considered:

Open Session

1. Approval of agenda.

2. Approval of minutes of the Board's meeting of September 11, 2004.

3. Approval of minutes of the Board's executive session of September 11, 2004.

4. Approval of minutes of the Search Committee meetings of:

(a) June 5, 2004;

(b) July 19, 2004; and

(c) August 12, 2004.

5. Approval of minutes of Board's executive session of June 5, 2004.

6. Consider and act on Resolution dissolving the Ad Hoc Search Committee for LSC President and Inspector General.

7. Chairman's Report.

8. Members' Reports.

9. President's Report.

10. Inspector General's Report.

11. Consider and act on the report of the Board's Committee on Provision for the Delivery of Legal Services.

12. Consider and act on the report of the Board's Operations & Regulations Committee.

13. Consider and act on the report of the Board's Finance Committee.

14. Consider and act on the report of the Board's Performance Reviews Committee.

15. Consider and act on Inspector General's Semiannual Report to Congress for the period of April 1-September 30, 2004, and LSC's Response.

16. Consider and act on the dates and locations of the Board's meetings for calendar year 2005.

17. Consider and act on other business.

18. Public comment.

Closed Session

19. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

20. Consider and act on General Counsel's report on potential and pending litigation involving LSC.

21. Consider and act on motion to adjourn meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: November 11, 2004.
Victor M. Fortuno,
Vice President for Legal Affairs, General Counsel & Corporate Secretary.

[FR Doc. 04-25483 Filed 11-12-04; 12:25 pm]

BILLING CODE 7050-01-P